DEPARTMENT OF LABOR

Employment and Training Administration

Comment Request for Information Collection for the Workforce Performance Accountability, Information, and Reporting System (OMB Control No. 1205-3NEW), New Collection

AGENCY: Employment and Training Administration (ETA), Labor.

ACTION: Notice.

SUMMARY: The Department of Labor (Department or DOL), ETA as part of its continuing effort to reduce paperwork and respondent burden, conducts a preclearance consultation to provide the public and Federal agencies with an opportunity to comment on the proposed collection of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, the Department is soliciting comments concerning the collection of data for the Workforce Innovation and Opportunity Act (WIOA) Workforce Performance Accountability, Information, and Reporting System (OMB Control No. 1205-3NEW). The following programs will be required to report through this system: WIOA Adult, Dislocated Worker, and Youth, Wagner Peyser Employment Service, National Farmworker Jobs, Trade Adjustment Assistance, YouthBuild, Indian and Native American, and the Jobs for Veterans' State Grants. Requiring all of these programs to use a standard set of data elements, definitions, and specifications at all levels of the workforce system helps improve the quality of the performance information that is received by DOL. While H1-B grants and the Reintegration of Ex-Offenders program are not authorized under WIOA, these programs will be utilizing the data element definitions and reporting templates proposed in this Information Collection Request (ICR). The accuracy, reliability, and comparability of program reports submitted by states and grantees using Federal funds are fundamental elements of good public administration, and are necessary tools for maintaining and demonstrating system integrity.

This new ICR is expected to take the place of several currently existing ICRs, including: 1205-0420 Workforce Investment Act (WIA) Management Information and Reporting System, 1205-0240 Wagner Peyser Labor Exchange Reporting System, 1205-0464 YouthBuild Reporting System, 1205-0422 Reporting and Performance Standards for WIA Indian and Native American Programs, 1205-0425 Reporting and Performance Standards System for Migrant and Seasonal Farmworker Programs Under Title I, Section 167 of the Workforce Investment Act, and the 1205-0392 Trade Act Participant Report. These ICRs will be rescinded once the last reporting requirements for WIA reporting are satisfied. As such, DOL will request to remove those from active status once the separate reporting requirements are no longer needed.

DATES: Submit written comments to the office listed in the addresses section below on or before November 2, 2015.

ADDRESSES: Comments submitted in response to this notice should be submitted electronically through the Federal eRulemaking Portal at http://www.regulations.gov by selecting Docket ID number ETA-2015-0008 or via postal mail, commercial delivery, or hand delivery. A copy of the proposed ICR with applicable supporting documentation, including a description of the likely respondents, proposed frequency of response, and estimated total burden may be obtained free of charge from http://www.regulations.gov or by contacting Luke Murren by telephone at 202-693-3733 (this is not a toll-free number) or by email at murren.luke@dol.gov. Individuals with hearing or speech impairments may access the telephone number above via TTY by calling the toll-free Federal Information Relay Service at 1-877-889-5627 (TTY/TDD). Fax: 202-693-2766.

Mail and hand delivery/courier: Send written comments to Luke Murren, Office of Policy Development and Research, Room N5641, Employment and Training Administration, U.S. Department of Labor, 200 Constitution Avenue NW., Washington, DC 20210. Due to security-related concerns, there may be a significant delay in the receipt of submissions by United States Mail. You must take this into consideration when preparing to meet the deadline for submitting comments.

Comments submitted in response to this comment request will become a matter of public record and will be summarized and included in the request for Office of Management and Budget (OMB) approval of the information collection request. In addition, comments, regardless of the delivery method, will be posted without change on the http://www.regulations.gov Web site; consequently, the Department recommends commenters not include personal information such as a Social Security Number, personal address, telephone number, email address, or confidential business information that they do not want made public. It is the responsibility of the commenter to determine what to include in the public record.

SUPPLEMENTARY INFORMATION:

I. Background

Section 116 of WIOA requires States that operate core programs of the publicly-funded workforce system to comply with common performance accountability requirements. As such, States that operate core programs must submit common performance data to demonstrate that specified performance levels are achieved.

WIOA Sec. 116(d)(1) mandates that the Secretaries of Labor and Education develop a template for the annual performance reports to be used by States, local boards, and eligible providers of training services for reporting on outcomes achieved by the WIOA core programs. Pursuant to WIOA sec. 116(d)(2), required annual data for the core programs include, among others, those related to primary performance indicators, participant counts and costs, and barriers to employment.

This notice includes several documents—the ETA (Program) Performance Scorecard, the WIOA Pay-for-Performance Scorecard, the Participant Individual Record Layout (PIRL), the WIOA Data Element Specifications, and the Job Openings Report. The Department requires states to certify and submit the ETA (Program) Performance Scorecard to ETA on a quarterly basis; the pay-for-performance report(s) and Job Openings report will also be collected quarterly when applicable. ETA will aggregate the information the States submit through the PIRL to populate the ETA (Program) Performance Scorecard, the WIOA Pay-for-Performance Report, and the Job Openings Report, which ETA will then send to the States to confirm their accuracy. Each program included in this ICR will generate its own quarterly Performance Scorecard.

The ETA (Program) Performance Scorecard and WIOA Pay-for-Performance Scorecard have been designed to maximize the value of the reports for workers, jobseekers, employers, local elected officials, State officials, Federal policymakers, and other key stakeholders. The PIRL has been designed to reflect the specific requirements of the annual reports as described in WIOA section 116(d)(2) through (4).

ETA will use the data to track total participants, characteristics, services, training strategies and outcomes for employed, unemployed and long-term unemployed participants. This data collection format permits program offices to evaluate program effectiveness, monitor compliance with statutory requirements, and analyze participant activity and grantee performance while complying with OMB efforts to streamline Federal performance reporting.

Under WIOA section 116(d)(6), the Secretary of Labor is required to annually make available (including by electronic means), in an easily understandable format, (a) the State Annual Performance Reports containing the information described in WIOA section 116 (d)(2) and (b) a summary of the reports, and the reports required under WIOA section 116 (d)(6) (the State Performance, Local Area, and Eligible Training Provider Reports), to the Committee on Education and the Workforce of the House of Representatives and the Committee on Health, Education, Labor, and Pensions of the Senate.

The reports and other analyses of the data will be made available to the public through publication and other appropriate methods and to the appropriate congressional committees through copies of such reports. In addition, information obtained through the Workforce Performance Accountability, Information, and Reporting System will be used at the national level during budget and allocation hearings for DOL compliance with the Government Performance and Results Act and other legislative requirements, and during legislative authorization proceedings.

Under this collection, participation will be measured based on the count of individuals who meet the proposed definition of a “participant”—e.g., those who have received staff-level services within the program year. An individual will be considered to have exited after they have gone 90 days without service, and with no future services scheduled. Should they return for additional services after the 90 days—within the same program year and exit in that same program year—the individual's exit date will be changed to reflect only the last exit date in that program year. If the individual exits in a subsequent program year, they would be counted as a new participant for purposes of that subsequent program year. Counting unique individuals in this manner will allow an unduplicated count of participants in the accountability and reporting system. The Department understands that this may affect quarterly reporting results and counts of services rendered early in the program year, particularly for programs whose current reporting practices differ from what is described above. As such, we greatly encourage your comments on the potential impact on individual states and local areas of this and all other items discussed in this package as we continue to finalize the details of this information collection process.

II. Review Focus

The Department is particularly interested in comments that:

• Evaluate whether the proposed collection of information is necessary for the proper performance of the functions of the agency, including whether the information will have practical utility;

• evaluate the accuracy of the agency's estimate of the burden of the proposed collection of information, including the validity of the methodology and assumptions used;

• can further help to create an integrated data element layout between ETA-funded programs;

• enhance the quality, utility, and clarity of the information to be collected; and

• minimize the burden of the collection of information on those who are to respond, including through the use of appropriate automated, electronic, mechanical, or other technological collection techniques or other forms of information technology (e.g., permitting electronic submissions of responses).

III. Current Actions

Type of Review: New collection.

Title: Workforce Performance Accountability, Information, and Reporting System.

OMB Number: 1205-3NEW.

Affected Public: State, Local, and Tribal Governments; Individuals or Households; and Private Sector—businesses or other for-profits and not-for-profit institutions.

Estimated Total Annual Respondents: 815.

Estimated Total Annual Responses: 17,261,405.

Estimated Total Annual Burden Hours: 2,026,441.

Total Estimated Annual Other Costs Burden: $17,100,000.

We will summarize and/or include in the request for OMB approval of the ICR, the comments received in response to this comment request; they will also become a matter of public record.

As mentioned above, this ICR covers the construction of an integrated ETA quarterly performance reporting template, drafted according to the data collection and reporting requirements in section 116 of WIOA. The notice of proposed rulemaking (NPRM) implementing WIOA was published on April 16, 2015, at 80 FR 20573. The NPRM comment period closed on June 15, 2015. Reporting templates were not yet available at that time; therefore, the DOL is providing the public this additional opportunity in order to receive comments on the specific requirements.

Sec. 506(b)(1) of WIOA states that section 116 of WIOA will go into effect at the start of the second full program year after the date WIOA was enacted. WIOA was enacted on July 22, 2014. Therefore, section 116's performance accountability system will be effective on July 1, 2016. Approval of this information collection request is required so that the states, locals, and other entities can begin programming their management information systems in order to enable them to collect the necessary data to implement the data collection and reporting requirements of section 116 in accordance with the WIOA statute.

This ICR may receive OMB approval before Final Rules implementing WIOA are published. If this occurs, the Department will submit another ICR for this collection to OMB to incorporate the Final Rule citations, as required by 5 CFR 1320.11(h). Those citations currently do not exist and, therefore, cannot be included at this time. The Department plans to review and analyze any comments received on the NPRM that are relevant to this ICR together with comments we receive in response to this Federal Register Notice in order to finalize the substantive information collection requirements to the extent legally possible.

Portia Wu,
Assistant Secretary for Employment and Training, Department of Labor.

[FR Doc. 2015-21607 Filed 8-31-15; 8:45 am]

BILLING CODE 4510-FN-P